DEPARTMENT OF TRANSPORTATION

Federal Aviation Administration

14 CFR Part 71

[Docket No. FAA-2023-2423; Airspace Docket No. 23-ANM-63]

RIN 2120-AA66

Modification of Class D and E Airspace; Bozeman Yellowstone International Airport, Bozeman, MT

AGENCY: Federal Aviation Administration (FAA), DOT.

ACTION: Final rule.

SUMMARY: This action modifies the Class D surface area airspace, Class E airspace area designated as surface area, Class E airspace area designated as an extension to a Class D or Class E surface area, and the Class E airspace area extending upward from 700 feet above the surface of the earth at Bozeman Yellowstone International Airport, Bozeman, MT. These actions support the safety and management of visual flight rules (VFR) and instrument flight rules (IFR) operations at the airport.

DATES: Effective date 0901 UTC, August 7, 2025. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies Class D and Class E airspace to support VFR and IFR operations at Bozeman Yellowstone International Airport, Bozeman, MT.

History

The FAA published a notice of proposed rulemaking for Docket No. FAA-2023-2423 in the Federal Register (90 FR 8001; January 23, 2025), proposing to modify Class D and Class E airspace at Bozeman Yellowstone International Airport, Bozeman, MT. Interested parties were invited to participate in this rulemaking effort by submitting written comments on the proposal to the FAA. Three comments were received. Two comments were in favor of the proposal and one comment was not germane to the airspace action.

Differences From the NPRM

Subsequent to the publication of the NPRM and effective February 10, 2025, the FAA's definition of the acronym “NOTAM” changed from “Notice to Air Missions” to “Notice to Airmen.” As such, the part-time language within the Class D and Class E surface area airspace legal descriptions should read “This Class D/E airspace area is effective during the specific dates and times established in advance by a Notice to Airmen.” Additionally, the legal description of the Class E airspace area designated as an extension to a Class D or Class E airspace area within the NPRM now contains part-time language to better align with FAA regulations.

Incorporation by Reference

Class D, E2, E4, and E5 airspace designations are published in paragraphs 5000, 6002, 6004, and 6005, respectively, of FAA Order JO 7400.11, Airspace Designations and Reporting Points, which is incorporated by reference in 14 CFR 71.1 on an annual basis. This document amends the current version of that order, FAA Order JO 7400.11J, dated July 31, 2024, and effective September 15, 2024. These amendments will be published in the next update to FAA Order JO 7400.11. FAA Order JO 7400.11J is publicly available as listed in the ADDRESSES section of this document. FAA Order JO 7400.11J lists Class A, B, C, D, and E airspace areas, air traffic service routes, and reporting points.

The Rule

The FAA is amending 14 CFR part 71 by modifying the Class D surface area airspace, the Class E airspace area designated as surface area, the Class E airspace areas designated as an extension to a Class D or Class E surface area, and the Class E airspace area extending upward from 700 feet above the surface of the earth at Bozeman Yellowstone International Airport, Bozeman, MT.

The radius of the Class D surface area and Class E airspace area designated as surface area is expanded to 5.1 miles to appropriately contain departures until reaching the next adjacent airspace. The southeast extension of the Class D surface area and Class E airspace area designated as surface area is removed as it is no longer needed.

In addition, the Class E airspace designated as an extension to a Class D or Class E surface area northwest of the airport is lengthened by .8 miles and widened by one mile to better contain arriving IFR aircraft on the very high frequency omnidirectional range (VOR) Runway (RWY) 12 approach while below 1,000 feet above the surface.

Finally, the central radius of the Class E airspace extending upward from 700 feet above the surface is expanded to 7.2 miles to better contain IFR aircraft departing on the BOZEMAN SIX DEPARTURE (OBSTACLE) until reaching 1,200 feet above the surface. The southeast extension centered on the 131° bearing is lengthened and realigned to the 136° bearing to better contain departing IFR aircraft on the BOBKT FIVE DEPARTURE (Area Navigation [RNAV]) until reaching 1,200 feet above the surface and IFR arrivals on the RNAV (Required Navigation Performance [RNP]) Z RWY 30 approach below 1,500 feet above the surface. The southeast extension centered on the 155° bearing is expanded by .7 miles, shortened by .1 miles, and realigned to the 165° bearing to better contain IFR departures until reaching 1,200 feet above the surface and IFR arrivals on the RNAV (RNP) Z RWY 30 approach below 1,500 feet above the surface. The northwest extension is widened by .6 miles and shortened by 1 mile to 4.2 miles on either side of the 316° bearing, extending from the 7.2-mile radius to 14.7 miles northwest of the airport to contain the hold-in-lieu-of procedure turn for the instrument landing system (ILS) localizer (LOC) RWY 12 arrival procedure for IFR aircraft descending below 1,500 feet above the surface.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR part 71.1 of FAA Order JO 7400.11J, Airspace Designations and Reporting Points, dated July 31, 2024, and effective September 15, 2024, is amended as follows:

Paragraph 5000 Class D Airspace

* * * * *

ANM MT D Bozeman, MT [Amended]

Bozeman Yellowstone International Airport, MT

(Lat. 45°46′38″ N, long. 111°09′01″ W)

That airspace extending upward from the surface to and including 7,000 feet MSL within a 5.1-mile radius of the airport. This Class D airspace area is effective during the specific dates and times established in advance by a Notice to Airmen. The effective date and time will thereafter be continuously published in the Chart Supplement.

* * * * *

Paragraph 6002 Airspace Areas Designated as Surface Area

* * * * *

ANM MT E2 Bozeman, MT [Amended]

Bozeman Yellowstone International Airport, MT

(Lat. 45°46′38″ N, long. 111°09′01″ W)

That airspace extending upward from the surface within a 5.1-mile radius of the airport. This Class E airspace area is effective during the specific dates and times established in advance by a Notice to Airmen. The effective date and time will thereafter be continuously published in the Chart Supplement.

* * * * *

Paragraph 6004 Airspace Areas Designated as an Extension to a Class D or Class E Surface Area

* * * * *

ANM MT E4 Bozeman, MT [Amended]

Bozeman Yellowstone International Airport, MT

(Lat. 45°46′38″ N, long. 111°09′01″ W)

That airspace extending upward from the surface within 4.1 miles southwest and 3.7 miles northeast of the airport's 316° bearing extending from its 5.1-mile radius to 14.5 miles northwest of the airport. This Class E airspace area is effective during the specific dates and times established in advance by a Notice to Airmen. The effective date and time will thereafter be continuously published in the Chart Supplement.

* * * * *

Paragraph 6005 Class E Airspace Areas Extending Upward From 700 Feet or More Above the Surface of the Earth

* * * * *

ANM MT E5 Bozeman, MT [Amended]

Bozeman Yellowstone International Airport, MT

(Lat. 45°46′38″ N, long. 111°09′01″ W)

That airspace extending upward from 700 feet above the surface within a 7.2-mile radius from the airport, and within 2 miles northeast and 1.3 miles southwest of the airport's 136° bearing extending from its 7.2-mile radius to 14.8 miles southeast of the airport, and within 4.3 miles east and 2 miles west of the airport's 165° bearing extending from its 7.2-mile radius to 10.5 miles south of the airport, and within 4.2 miles either side of the airport's 316° bearing extending from its 7.2-mile radius to 14.7 miles northwest of the airport.

* * * * *

Issued in Des Moines, Washington, on April 4, 2025.
B.G. Chew,
Group Manager, Operations Support Group, Western Service Center.

[FR Doc. 2025-06177 Filed 4-10-25; 8:45 am]

BILLING CODE 4910-13-P